DEPARTMENT OF HOMELAND SECURITY

Coast Guard

[Docket No. USCG-2014-1020]

Guidance on Maritime Cybersecurity Standards

AGENCY: Coast Guard, DHS.

ACTION: Correction.

SUMMARY: The Coast Guard published a notice in the Federal Register on December 18, 2014 requesting public comments on maritime cybersecurity standards. The notice included a footnote that contained an error regarding the scope of the population that might wish to submit comments on the notice. The purpose of this correction is to clarify that Coast Guard seeks comments from all parties interested in maritime cybersecurity standards.

DATES: This correction is effective December 31, 2014. The comment period remains open through February 17, 2015.

ADDRESSES: Submit comments using one of the listed methods, and see SUPPLEMENTARY INFORMATION for more information on public comments.

• Online— http://www.regulations.gov following Web site instructions.

• Fax—202-493-2251.

• Mail or hand deliver—Docket Management Facility (M-30), U.S. Department of Transportation, West Building Ground Floor, Room W12-140, 1200 New Jersey Avenue SE., Washington, DC 20590-0001. Hours for hand delivery are 9 a.m. to 5 p.m., Monday through Friday, except Federal holidays (telephone 202-366-9329).

FOR FURTHER INFORMATION CONTACT: For information about this document call or email LT Josephine Long, Coast Guard; telephone 202-372-1109, email Josephine.A.Long@uscg.mil or LCDR Joshua Rose, Coast Guard; 202-372-1106, email Joshua.D.Rose@uscg.mil. For information about viewing or submitting material to the docket, call Cheryl Collins, Program Manager, Docket Operations, telephone 202-366-9826, toll free 1-800-647-5527.

SUPPLEMENTARY INFORMATION:

Public Participation and Comments

We encourage you to submit comments (or related material) on the notice we published on December 18, 2014 (79 FR 75574). We will consider all submissions and may adjust our final policy actions based on your comments. Comments should be marked with docket number USCG-2014-1020, and should provide a reason for each suggestion or recommendation. You should provide personal contact information so that we can contact you if we have questions regarding your comments; but please note that all comments will be posted to the online docket without change and that any personal information you include can be searchable online (see the Federal Register Privacy Act notice regarding our public dockets, 73 FR 3316, Jan. 17, 2008).

Mailed or hand-delivered comments should be in an unbound 8½ x 11 inch format suitable for reproduction. The Docket Management Facility will acknowledge receipt of mailed comments if you enclose a stamped, self-addressed postcard or envelope with your submission.

Documents mentioned in this notice, and all public comments, are in our online docket at http://www.regulations.gov and can be viewed by following the Web site's instructions. You can also view the docket at the Docket Management Facility (see the mailing address under ADDRESSES) between 9 a.m. and 5 p.m., Monday through Friday, except Federal holidays.

Correction

In the December 18, 2014 edition of the Federal Register, the Coast Guard published a notice titled, “Guidance on Maritime Cybersecurity Standards” (79 FR 75574). In providing background information, the notice contained the following statement: “Coast Guard regulations require certain vessel and facility operators to conduct security assessments, and to develop security plans that address vulnerabilities identified by the security assessment.” Mistakenly, the footnote at the end of that statement, referencing the applicable regulatory citations, referred to 33 CFR parts 104 (vessels) and 105 (facilities), but failed to refer to 33 CFR part 106 (outer continental shelf facilities). To avoid any confusion that may have resulted from the inadvertent omission of 33 CFR part 106 from the footnote, we wish to clarify that we are soliciting comments from all parties interested in maritime cybersecurity standards, including all parties regulated by the Coast Guard under 33 CFR chapter I, subchapter H.

Authority

This notice is issued under the authority of 5 U.S.C. 552(a).

Dated: December 23, 2014.
Katia Cervoni,
Chief, Office of Regulations and Administrative Law, U.S. Coast Guard.

[FR Doc. 2014-30613 Filed 12-30-14; 8:45 am]

BILLING CODE 9110-04-P